NATIONAL FOUNDATION ON THE ARTS AND THE HUMANITIES

Institute of Museum and Library Services; Sunshine Act Meeting of the National Museum and Library Services Board

AGENCY: Institute of Museum and Library Services (IMLS), NFAH.

ACTION: Notice of Meeting.

SUMMARY: This notice sets forth the agenda of the forthcoming meeting of the National Museum and Library Services Board. This notice also describes the function of the Board. Notice of the meeting is required under the Sunshine in Government Act.

Time and Date: Tuesday, June 23, 2009 from 11:15 a.m. to 3:30 p.m.

Agenda: Meeting of the Seventeenth National Museum and Library Service Board Meeting:

11:15 a.m.-12:45 p.m. Jury Meeting to consider the National Medals for Library Services.

(Closed to the Public)

2 p.m.-3:30 p.m. Jury Meeting to consider the National Medals for Museum Services.

(Closed to the Public)

Place: The meetings will be held in the Board room at the Institute of Museum and Library Services. 1800 M Street, NW., 9th Floor, Washington, DC 20036. Telephone: (202) 653-4676.

Time and Date: Wednesday, June 24, 2009 from 9:15 a.m. to 1 p.m.

Agenda: Seventeenth National Museum and Library Services Board Meeting:

9:15 a.m. 9:45 a.m. National Award Recommendations.

(Closed to Public)

10 a.m.-1 p.m. Seventeenth National Museum and Library Services Board Meeting:

I. Welcome

II. Approval of Minutes

III. Financial Update

IV. Legislative Update

V. Board Program

VI. Board Updates

VII. Adjournment

(Open to the Public)

Place: The meetings will be held in the Board room at the Institute of Museum and Library Services. 1800 M Street, NW., 9th Floor, Washington, DC 20036. Telephone: (202) 653-4676.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services.

The Jury Meetings to consider the National Medal for Museum and Library Services on Tuesday, June 23, 2009, and the National Award Recommendations on Wednesday, June 24, 2009 from 9:15 a.m. to 9:45 a.m. will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meeting from 10 a.m. until 1 p.m. on Wednesday, June 24, 2009 is open to the public.

If you need special accommodations due to a disability, please contact: Institute of Museum and Library Services, 1800 M Street, NW., 9th Fl., Washington, DC 20036. Telephone: (202) 653-4676; TDD (202) 653-4614 at least seven (7) days prior to the meeting date.

Dated June 3, 2009.
Kate Fernstrom,
Chief of Staff.

[FR Doc. E9-13626 Filed 6-10-09; 8:45 am]

BILLING CODE 7036-01-M